OFFICE OF THE UNITED STATES TRADE REPRESENTATIVE

[Docket No. WTO/DS345]

WTO Dispute Settlement Proceeding Regarding United States—Customs Bond Directive for Merchandise Subject to Anti-Dumping/Countervailing Duties

AGENCY: Office of the United States Trade Representative.

ACTION: Notice; request for comments.

SUMMARY: The Office of the United States Trade Representative (“USTR”) is providing notice that on June 6, 2006, India requested consultations with the United States under the Marrakesh Agreement Establishing the World Trade Organization (“WTO Agreement”) concerning certain issues relating to Customs Bond Directive 99-3510-004, as amended by the Amendment to Bond Directive 99-3510-004 (July 9, 2004), and clarifications and amendments thereof. That request may be found at http://www.wto.org contained in a document designated as WT/DS345/1. USTR invites written comments from the public concerning the issues raised in this dispute.

DATES: Although USTR will accept any comments received during the course of the dispute settlement proceedings, comments should be submitted on or before August 18, 2006 to be assured of timely consideration by USTR.

ADDRESSES: Comments should be submitted (i) electronically, to FR0624@ustr.eop.gov, Attn: “India Bond Dispute (DS345)” in the subject line, or (ii) by fax, to Sandy McKinzy at (202) 395-3640. For documents sent by fax, USTR requests that the submitter provide a confirmation copy to the electronic mail address listed above.

FOR FURTHER INFORMATION CONTACT: Elissa Alben, Assistant General Counsel, Office of the United States Trade Representative, 600 17th Street, NW., Washington, DC 20508, (202) 395-9622.

SUPPLEMENTARY INFORMATION: USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within six to nine months after it is established.

Major Issues Raised by India

On August 4, 2004, the Department of Commerce published in the Federal Register notice of its affirmative preliminary less-than-fair-value (“LTFV”) determination in an investigation concerning certain frozen and canned warm water shrimp from India (69 FR 47,111). On December 23, 2004, the Department of Commerce published notice of its affirmative final LTFV determination (69 FR 76,916), and on February 1, 2005, the Department of Commerce published an amended final LTFV determination, along with an antidumping duty order, covering only certain frozen warm water shrimp from India (70 FR 5147). The latter notice contains the final margins of LTFV sales, as provided in section 733 of the Tariff Act of 1930, as amended.

In its request for consultations, India alleges that the United States has imposed on importers a requirement to maintain a continuous entry bond in the amount of the anti-dumping duty margin multiplied by the value of imports of frozen warmwater shrimp imported by the importer in the preceding year, and that Customs Bond Directive 99-3510-004, as amended on July 9, 2004 (and any clarifications and amendments thereof) as such constitutes specific action against dumping and subsidization not in accordance with GATT 1994 Article VI:2 and 3, as well as Articles 1, and 18.1 of the AD Agreement and Articles 10 and 32.1 of the Subsidies Agreement, that it results in charges in excess of the margin of dumping or amount of subsidy that are not in accordance with GATT 1994 Articles VI:2 and VI:3, and that it is unreasonable as security for payment of antidumping and countervailing duties and therefore inconsistent with Note Ad paragraphs 2 and 3 of GATT 1994 Article VI. India further alleges that the continuous bond requirement as such is inconsistent with Articles 7.1, 7.2, 7.4, and 7.5 of the AD Agreement and Articles 17.1, 17.2, 17.4, and 17.5 of the Subsidies Agreement to the extent that it may be characterized as a provisional measure or is applied prior to the imposition of definitive antidumping duties, and that it is inconsistent with Articles 9.2 and 9.3 of the AD Agreement and Articles 19.3 and 19.4 of the Subsidies Agreement. India further states that because the amended directive was not published in the Federal Register or the Customs Bulletin of the United States, it is inconsistent with GATT 1994 Article X, AD Agreement Article 18.5, and Subsidies Agreement Article 32.5. India alleges that the measure as such is inconsistent with GATT 1994 Article I and II as a charge in excess of that imposed or mandatorily required by legislation on the date of entry into force of the GATT, and that it is inconsistent with GATT 1994 Article XI as a restriction other than a duty, tax or other charge and GATT 1994 Article XIII to the extent it is applied in a discriminatory manner. India also states that the application of the continuous bond requirement to imports of frozen warmwater shrimp from India is inconsistent with Articles I, II, VI:2 (including Note 1 Ad Paragraphs 2 and 3 of Article VI) XI, and XIII of the GATT, and Articles 1, 7.1, 7.2, 7.4, 7.5, 9.2, 9.3, 9.3.1 and 18.1 of the AD Agreement.

Public Comment: Requirements for Submissions

Interested persons are invited to submit written comments concerning the issues raised in this dispute. Persons may submit their comments either (i) electronically, to FR0624@ustr.eop.gov, Attn: “India Bond Dispute (DS345)” in the subject line, or (ii) by fax to Sandy McKinzy at (202) 395-3640. For documents sent by fax, USTR requests that the submitter provide a confirmation copy to the electronic mail address listed above.

USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly designated as such and the submission must be marked “BUSINESS CONFIDENTIAL” at the top and bottom of the cover page and each succeeding page.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket No. WT/DS-345, India Bond Dispute) may be made by calling the USTR Reading Room at (202) 395-6186. The USTR Reading Room is open to the public from 9:30 a.m. to noon and 1 p.m. to 4 p.m., Monday through Friday.

Daniel Brinza,
Assistant United States Trade Representative for Monitoring and Enforcement.

[FR Doc. E6-12788 Filed 8-4-06; 8:45 am]

BILLING CODE 3190-W6-P